DEPARTMENT OF VETERANS AFFAIRS

Privacy Act of 1974; Report of Matching Program

AGENCY: Department of Veterans Affairs.

ACTION: Notice of a computer-matching program.

SUMMARY: In accordance with subsection (e)(12) of the Privacy Act of 1974, as amended, (5 U.S.C. 552a) this notice announces that the Department of Veterans Affairs (VA), recipient agency, intends to conduct a recurring computer-matching program with the Railroad Retirement Board (RRB), source agency.

VA will match pension and parents' dependency and indemnity compensation (DIC) records with RRB recipient records. The goal of this match is to compare income status as reported to VA with benefit records maintained by RRB. The authority to conduct this match is 38 U.S.C. 5106.

DATES: VA will file a report of the subject matching agreement with the Committee on Homeland Security and Governmental Affairs of the Senate; the Committee on Government Reform and Oversight of the House of Representatives, and the Office of Information and Regulatory Affairs, Office of Management and Budget (OBM). The matching program will be effective as indicated in this notice.

ADDRESSES: Written comments may be submitted by: mail or hand-delivery to Director, Regulations Management (00REG1), Department of Veterans Affairs, 810 Vermont Avenue, NW., Room 1068, Washington, DC 20420; fax to (202) 273-9026; or e-mail to VAregulations@mail.va.gov.

All comments received will be available for public inspection in the Office of Regulation Policy and Management, Room 1063B, between the hours of 8 a.m. and 4:30 p.m., Monday through Friday (except holidays). Please call (202) 273-9515 for an appointment.

FOR FURTHER INFORMATION CONTACT: Pamela Liverman (212A), (757) 858-6148, ext. 107.

SUPPLEMENTARY INFORMATION: Pursuant to subsection (o) of the Privacy Act of 1974, as amended, (5 U.S.C. 552a), the RRB and VA have determined that a computer matching agreement is the most cost effective and efficient way to verify statements of applicants and recipients.

VA has an obligation to verify the income information submitted by individuals in receipt of income-dependent benefits. Title 38 U.S.C. 5106 requires that Federal agencies disclose this information to VA upon request. By comparing the information received through the matching program between VA and RRB on a recurring basis, VA will be able to make timely and more accurate adjustments in the benefits payable.

A. Participating Agencies

The U.S. Railroad Retirement Board and the U.S. Department of Veterans Affairs.

B. Purpose of the Match

The purpose of the matching agreement is to identify beneficiaries receiving VA income dependent benefits and RRB benefits, to update VA's master records and adjust VA income dependent benefit payments as prescribed by law. This agreement reflects both agencies' responsibilities under the Privacy Act (5 U.S.C. 552a) and the regulations promulgated.

C. Authority for Conducting the Matching Program

The authority to conduct this match is 38 U.S.C. 5106.

D. Records To Be Matched

The VA records involved in the match are the VA system of records, Compensation, Pension and Education and Rehabilitation Records—VA (58 VA 21/22), first published at 41 FR 9294 (March 3, 1976), and last amended at 70 FR 34186 (June 13, 2005), with other amendments as cited therein.

The RRB records consist of information from the Railroad Retirement, Survivor, and Pensioner Benefit System, RRB-22, contained in the Privacy Act Issuances, 2001 Compilation Online via GPO Access.

E. Description of Computer Matching Program

The Department of Veterans Affairs plans to match records of veterans and surviving spouses and children who receive pension, and parents who receive DIC, with Railroad Retirement benefit records maintained by RRB. The match with RRB will provide VA with data from the RRB Research File of Retirement and Survivor Benefits.

VA will use this information to update the master records of VA beneficiaries receiving income dependent benefits and to adjust VA benefit payments as prescribed by law. Otherwise, information about a VA beneficiary's income is obtained only from reporting by the beneficiary. The proposed matching program will enable VA to ensure accurate reporting of income.

VA will provide RRB with a tape, which contains the names, VA claim numbers, social security numbers, verification codes and VA regional office identifiers. RRB will return a tape to VA, which contains information on RRB payment amounts in RRB's records.

F. Inclusive Dates of the Matching Program

The match will start no sooner than 30 days after publication of this Notice in the Federal Register, or 40 days after copies of this Notice and the agreement of the parties is submitted to Congress and the Office of Management and Budget, whichever is later, and end not more than 18 months after the agreement is properly implemented by the parties. The involved agencies' Data Integrity Boards (DIB) may extend this match for 12 months provided the agencies certify to their DIBs, within three months of the ending date of the original match, that the matching program will be conducted without change and that the matching program has been conducted in compliance with the original matching program.

This computer-matching program is subject to public comment and review by Congress and the Office of Management and Budget. In accordance with Title 5 U.S.C. subsection 552a(o)(2) and (r), copies of the agreement are being sent to both Houses of Congress and to the Office of Management and Budget.

This notice is provided in accordance with the provisions of the Privacy Act of 1974 as amended by Public Law 100-503.

Approved: July 14, 2006.
Gordon H. Mansfield,
Deputy Secretary of Veterans Affairs.

[FR Doc. E6-12258 Filed 7-31-06; 8:45 am]

BILLING CODE 8320-01-P